DEPARTMENT OF AGRICULTURE

Agricultural Marketing Service

[Document Number: AMS-FV-08-0067, FV-08-327]

United States Standards for Grades of Pineapple Juice

AGENCY: Agricultural Marketing Service, USDA.

ACTION: Notice; correction.

SUMMARY: The United States Standards for Grades of Pineapple Juice are corrected to include text inadvertently omitted from Tables I and II. The corrections restore text for limiting rules that were inadvertently omitted when the standards were last revised in 1987.

DATES: Effective Date: August 24, 2010.

FOR FURTHER INFORMATION CONTACT: Lydia E. Berry, Processed Products Branch, Fruit and Vegetable Programs, Agricultural Marketing Service, U.S. Department of Agriculture, Room 0709, South Building; STOP 0247, Washington, DC 20250-0247; Telephone (202) 720-4693, fax (202) 690-1087; or e-mail lydia.berry@ams.usda.gov. Corrected copies of the U.S. Standards for Grades of Pineapple Juice are located on the Internet at: http://www.regulations.gov or http://www.ams.usda.gov/processedinspection.

SUPPLEMENTARY INFORMATION:

A final rule was published in the Federal Register, 52 FR 40 6129, revising the United States Standards for Grades of Pineapple Juice. During this revision, text was omitted from Tables I and II which summarize the quality factors for each product. When the standards were revised, the text was simplified; however, references to limiting rules were inadvertently not included in the text of that revision.

The United States Standards for Grades of Pineapple Juices as well as certain other fruit and vegetable standards no longer appear in the Code of Federal Regulations (CFR). Such U.S. standards were removed from the CFR in 1996 and are now subject to the procedures that appear in part 36, title 7 of the Code of Federal Regulations (7 CFR part 36).

These corrections restore the text for limiting rules to Tables I and II in the standards. The language of the limiting rules state that the product shall not be graded above “U.S. Grade B” if any of the quality factors—color, defects, or flavor score within the range for “U.S. Grade B;” and the product shall not be graded above “Substandard” if any of the quality factors—color, defects, or flavor score within the range for “Substandard.”

Authority: 7 U.S.C. 1621-1627.

Dated: August 17, 2010.
Rayne Pegg,
Administrator, Agricultural Marketing Service.

[FR Doc. C1-2010-21030 Filed 8-23-10; 8:45 am]

BILLING CODE 3410-02-P